DEPARTMENT OF LABOR

Employment and Training Administration

[TA-W-60,528]

Sherwood, Harsco GasServ, a Subsidiary of Harsco Corporation, Currently Known as Sherwood Valve LLC, Niagara Falls, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on December 15, 2006, applicable to workers of Sherwood, Harsco GasServ, a subsidiary of Harsco Corporation, Niagara Falls, New York. The notice was published in the Federal Register on December 27, 2006 (71 FR 77801).

At the request of a company official, the Department reviewed the certification for workers of the subject firm. The workers are engaged in employment related to the production of precision valves used for gas and fluid control.

New information shows that on December 7, 2007, Taylor-Wharton International purchased Sherwood, Harsco GasServ and is currently known as Sherwood Valve LLC. The workers' wages at the subject firm are being reported under a separate Unemployment Insurance (UI) tax account for Sherwood Valve LLC.

Accordingly, the Department is amending this certification to properly reflect this matter.

The amended notice applicable to TA-W-60,528 is hereby issued as follows:

“All workers of Sherwood, Harsco GasServ, a subsidiary of Harsco Corporation, currently known as Sherwood Valve LLC, Niagara Falls, New York, who became totally or partially separated from employment on or after December 4, 2005, through December 15, 2008, are eligible to apply for adjustment assistance under Section 223 of the Trade Act of 1974 and are also eligible to apply for alternative trade adjustment assistance under Section 246 of the Trade Act of 1974.”

Signed at Washington, DC, this 12th day of September 2008.
Linda G. Poole,
Certifying Officer, Division of Trade Adjustment Assistance.

[FR Doc. E8-22120 Filed 9-22-08; 8:45 am]

BILLING CODE 4510-FN-P